ENVIRONMENTAL PROTECTION AGENCY

40 CFR Part 180

[EPA-HQ-OPP-2007-0099; FRL-8849-2]

Flubendiamide; Pesticide Tolerances; Technical Correction

AGENCY: Environmental Protection Agency (EPA).

ACTION: Final rule; technical correction.

SUMMARY: EPA issued a final rule in the Federal Register of August 18, 2010, concerning the establishment, reassessment, modification and revoking of tolerances for residues of flubendiamide, in or on multiple food and livestock commodities. This document is being issued to correct typographical errors in the referenced rule, specifically, to revise incorrect tolerance values for the established tolerances for corn, field, grain; corn, field, stover; corn, sweet, stover; and cotton gin byproducts.

DATES: This final rule is effective November 5, 2010.

ADDRESSES: EPA has established a docket for this action under docket identification (ID) number EPA-HQ-OPP-2007-0099. All documents in the docket are listed in the docket index available in http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Carmen Rodia, Registration Division (7504P), Office of Pesticide Programs, Environmental Protection Agency, 1200 Pennsylvania Avenue, NW., Washington, DC 20460-0001; telephone number: (703) 306-0327; fax number: (703) 308-0029; e-mail address: rodia.carmen@epa.gov.

SUPPLEMENTARY INFORMATION:

I. Does this action apply to me?

The Agency included in the final rule a list of those who may be potentially affected by this action. If you have questions regarding the applicability of this action to a particular entity, consult the person listed under FOR FURTHER INFORMATION CONTACT.

II. What does this technical correction do?

Currently, 40 CFR 180.639(a)(1) provides an incorrect tolerance value for the established tolerances for corn, field, grain (0.02 ppm); corn, field, stover (0.15 ppm); corn, sweet, stover (0.25 ppm); and cotton gin byproducts (0.60 ppm). As supported by submitted field trial and processing data, these tolerance values should be revised to 0.03 ppm; 15 ppm; 25 ppm; and 60 ppm, respectively. Therefore, EPA is correcting the entries for corn, field, grain; corn, field, stover; corn, sweet, stover; and cotton gin byproducts in the table in § 180.369(a)(1).

III. Why is this correction issued as a final rule?

Section 553 of the Administrative Procedure Act (APA), 5 U.S.C. 553(b)(3)(B), provides that, when an Agency for good cause finds that notice and public procedure are impracticable, unnecessary or contrary to the public interest, the Agency may issue a final rule without providing notice and an opportunity for public comment. EPA has determined that there is good cause for making this technical correction final without prior proposal and opportunity for comment, because this final rule corrects a number of typographical errors and does not otherwise change the original requirements of the final rule. EPA finds that this constitutes good cause under 5 U.S.C. 553(b)(3)(B).

IV. Do any of the statutory and Executive Order reviews apply to this action?

This final rule corrects a number of typographical errors and does not otherwise change the original requirements of the final rule. As a typographical correction, this action is not subject to the statutory and Executive Order review requirements. For information about the statutory and Executive Order review requirements as they related to the final rule, see Unit VI. in the Federal Register of August 18, 2010 (75 FR 50914) (FRL-8836-2).

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: October 28, 2010.
Lois Rossi,
Director, Registration Division, Office of Pesticide Programs.

Therefore, 40 CFR part 180 is corrected as follows:

PART 180—[AMENDED]

1. The authority citation for part 180 continues to read as follows:

Authority: 21 U.S.C. 321(q), 346a and 371.

2. In § 180.639, in the table to paragraph (a)(1), revise the entries for corn, field, grain; corn, field, stover; corn, sweet, stover; and cotton gin byproducts, to read as follows:

§ 180.639 Flubendiamide; tolerances for residues.

(a) * * * (1) * * *

Commodity | Parts per million
| * * * * *
Corn, field, grain | 0.03
Corn, field, stover | 15
Corn, sweet, stover | 25
| * * * * *
Cotton gin byproducts | 60
| * * * * *

[FR Doc. 2010-27998 Filed 11-4-10; 8:45 am]

BILLING CODE 6560-50-P